DEPARTMENT OF ENERGY

Federal Energy Regulatory Commission

[Docket Nos. IC11-520-001; IC11-561-001; and IC11-566-001]

Commission Information Collection Activities, Proposed Collections; Comment Request; Extension

AGENCY: Federal Energy Regulatory Commission.

ACTION: Notice.

SUMMARY: In compliance with the requirements of Section 3507 of the Paperwork Reduction Act of 1995, 44 U.S.C. 3507, the Federal Energy Regulatory Commission (Commission) has submitted the information collections described below to the Office of Management and Budget (OMB) for review and an extension of the expiration date for these information collection requirements. Any interested person may file comments directly with OMB and should address a copy of those comments to the Commission as explained below. The Commission received one comment in response to an earlier Federal Register notice of March 4, 2011 (76FR12091) and has made this notation in its submission to OMB.

DATES: Comments on the collection of information are due by July 13, 2011.

ADDRESSES: Address comments on the collection of information to the Office of Management and Budget, Office of Information and Regulatory Affairs, Attention: Federal Energy Regulatory Commission Desk Officer. Comments to OMB should be filed electronically, c/o oira__submission@omb.eop.gov and include the OMB Control Nos. as points of reference. For comments that pertain to only one or two of the collections, specify the appropriate collection(s) and OMB Control Number(s). The Desk Officer may be reached by telephone at 202-395-4638.

A copy of the comments should also be sent to the Federal Energy Regulatory Commission. Comments may be filed either electronically or in paper format. Those persons filing electronically do not need to make a paper filing. For paper filings, such comments should be submitted to the Office of the Secretary, Federal Energy Regulatory Commission, 888 First Street, NE., Washington, DC 20426 and should refer to Docket Nos. IC11-520-001; IC11-561-001; and IC11-566-001. (If comments apply to only one or two of the collections, indicate the corresponding docket and collection number(s).)

Documents filed electronically via the Internet must be prepared in an acceptable filing format and in compliance with the Federal Energy Regulatory Commission's submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the eLibrary link. For user assistance, contact ferconlinesupport@ferc.gov or toll-free at (866) 208-3676 or for TTY, contact (202) 502-8659.

FOR FURTHER INFORMATION: Ellen Brown may be reached by e-mail at DataClearance@ferc.gov, by telephone at (202) 502-8663, by fax at (202) 273-0873.

SUPPLEMENTARY INFORMATION:

Description

The supporting statement for the information collections submitted for OMB review contains the following information.

1. Collections of Information:

Information collection No. | OMB No. | Information collection title
FERC-520 | 1902-0083 | Application to Hold Interlocking Directorate Positions.
Form 561 | 1902-0099 | Annual Report of Interlocking Directorates.
FERC-566 | 1902-0114 | Annual Report of Twenty Largest Purchasers.

2. Sponsor: Federal Energy Regulatory Commission.

3. Action: The Commission is requesting that OMB approve these information collections with a three-year extension of the expiration dates, with no changes to the existing collections. The information filed with the Commission is mandatory.

4. Necessity of the Collections of Information: The Federal Power Act (FPA), as amended by the Public Utility Regulatory Policies Act of 1978 (PURPA), mandates federal oversight and approval of certain electric corporate activities to ensure that neither public nor private interests are adversely affected. Accordingly, the FPA prescribes related information filing requirements to achieve this goal. Such filing requirements are found in the Code of Federal Regulations (CFR), specifically in 18 CFR Parts 45, 46 and section 131.31 and serve as the basis for FERC-520, Form 561, and FERC-566. Most of the requirements are statutorily defined and cannot be changed. The Commission can initiate enforcement proceedings when violations and omissions of the Act's provisions occur.

The FERC-520 is divided into two types of applications: Full and abbreviated. The full application, as specified in section 45.8, implements the FPA requirement that it is unlawful for any person to concurrently hold the positions of officer or director of more than one public utility; or a public utility and a bank or financial institution that underwrites or markets public utility securities; or a public utility and an electrical equipment supplier to that public utility unless the Commission has authorized the interlocks to be held. Before assuming an interlocked position, an applicant must demonstrate that neither public nor private interests will be adversely affected by the holding of the position. The full application provides Commission staff with a list of certain information required from the applicant concerning the interlocking positions for which he/she seeks authorization. Information provided includes, but is not limited to, a description of duties, estimated time devoted to the position, and any indebtedness to the public utility.

The abbreviated application, as specified in 18 CFR 45.9 and otherwise known as an informational report, allows an applicant to receive automatic authorization for an interlock position upon receipt of filing with the FERC. The abbreviated application applies only to those individuals who seek authorization as an (1) Officer or director of two or more public utilities where the same holding company owns, directly or indirectly, wholly or in part, the other public utility; (2) an officer or director of two public utilities, if one utility is owned, wholly or in part, by the other; or (3) an officer or director of more than one public utility, if such person is already authorized under Part 45 to hold different positions where the interlock involves affiliated public utilities. Information required is on a much smaller scale than that which is required for the full application.

Pursuant to 18 CFR 45.5, in the event that an applicant resigns or withdraws from all Commission-authorized interlocked positions within a corporate structure or is not re-elected or re-appointed to any interlocked positions within that corporate structure, FERC requires that the applicant submit a notice of change within 30 days from the date of change.

The information the Commission collects with Form 561 (“Annual Report of Interlocking Positions”) responds to the FPA requirements for annual reporting of similar types of positions public utility officers and directors hold with financial institutions, insurance companies, utility equipment and fuel providers, and with any of an electric utility's twenty largest purchasers of electric energy. The FPA specifically defines most of the information elements in the Form 561, including the information that must be filed, the required filers, the directive to make the information available to the public, and the filing deadline. The Commission determined administrative aspects of the Form 561 such as the filing format and instructions for filling out the form. The information collected by the Commission through the Form 561 is used to implement the FPA requirement that those who are authorized to hold interlocked directorates annually disclose all the interlocked positions they held the prior year. The Form 561 data identifies persons holding interlocking positions between public utilities and other entities, allows the Commission to review these and permits identification of possible conflicts of interest.

Finally, the FERC-566, “Annual Report of a Utility's Twenty Largest Purchasers,” implements FPA requirements that each public utility annually publish a list of the purchasers of the twenty largest annual amounts of electric energy sold by such public utility during any one of three previous calendar years. Similar to the statutory detail in the FPA for the Form 561, the FPA identifies who must file the FERC-566 report and sets the filing deadline. The FPA specifies that those entities required to report who have a holding company system can calculate their total volumes of energy sold by including the amounts sold by utilities within their holding company system. The FERC details in its regulations special rules about the information to be provided in the FERC-566 report. For example, FERC allows required filers to file estimates of volumes based on actual information available to them if actual volumes are not available by the statutory due date. However, the FERC also requires revisions of those filed estimates with final numbers by March 1st. The public disclosure of this information provides officers and directors with the information necessary to determine whether any of the entities with whom they are related are any of the largest twenty purchasers of the public utility with which they are affiliated.

Together, these data collections provide views into complex electric corporate activities. They serve to safeguard public and private interests, as the FPA requires, by disclosing business relationships to both the public and the Commission for analyses. The public can file a complaint with the Commission if disclosures made under these data collections provide evidence of corporate behavior that violates Commission policy.

The Commission can use its enforcement authority when violations and omissions of FPA requirements occur.

5. Summary of Public Comment and Agency Response to Comment:

In accordance with OMB regulations in 5 CFR 1320.8(d), the Commission's Notice to renew its OMB approval of FERC-520, Form 561 and FERC-566 information collections was published in the Federal Register on March 4, 2011. The Commission received one comment in response to this notice from the Edison Electric Institute (EEI). A summary of the comment and the Commission's response follow.

EEI Comment. EEI suggests the Commission modify section 45.9 of its regulations to expand the scope of automatic authorizations issued for FERC-520 applications. EEI believes the Commission should permit automatic authorization of (i) all interlocks between affiliated companies within a holding company system that includes a public utility under section 305(b) of the Federal Power Act; (ii) all interlocks between public utilities that do not have captive customers or own or operate transmission facilities and unaffiliated companies; and (iii) all interlocks between franchised public utilities and unaffiliated companies that agree to adopt the Commission's restrictions on non-power goods and services transactions.

In its comments, EEI refers to various sections of the preamble to Order No. 446 as support for its request that automatic authorizations of certain “informational” applications would not adversely affect the public interest. EEI believes automatic reauthorizations would reduce both the reporting burden of filers and the processing burden on FERC staff resources.

In its comments, EEI also points out a calculation error in FERC's burden estimate. The FERC estimates the cost of preparing the FERC-566 as $68 per respondent per year, based on an estimated 6 hours per response, 434 respondents filing once per year, and an average annual staff salary of $142,372. However, using the stated information, the average cost per response would be $411 (i.e., 6 hours per response/2080 hours per year × $142,372 average salary). Further, EEI states that one of its members has noted that it takes them 8 hours per response and not 6 hours. EEI indicates this would raise this average cost per response to $548 (i.e. (8 hours/6 hours) × $411).

FERC Response. FERC notes EEI comments and shares its interest in identifying and implementing burden reductions to the benefit of form filers as well as FERC staff. In fact, burden reduction has been the primary reason FERC has undertaken specific efforts over the last several years to make greater use of IT and electronic filing. Nevertheless, EEI's suggestions raise issues and implications that would require FERC to explore and address them more appropriately in a forum and process that is better suited to full public identification and deliberation of any possible proposed and planned changes to regulatory activities.

As a separate matter, FERC has made the arithmetic correction to the burden calculation in the March 2011 notice. However, FERC will not change the number of hours per response based on the information EEI provides. The EEI comment clearly states that it was only one of its members who has noted its filing time is 2 hours longer than the 6 hours FERC estimates it takes filers to comply with the requirements of FERC-566, on average. Because the estimate is an average, it is to be expected that some filers will have a higher reporting burden while others will have a lower one. Therefore, FERC does not see a reason to change the FERC-566 average completion time of 6 hours.

6. Respondents, Estimated Burden and Estimated Cost Burden to Respondents: ¹

¹ The figures may be rounded.

FERC estimates for the annual burden follow.

FERC data collection | Number of respondents annually (average) | Number of responses per respondent | Average burden hours per response | Total annual burden hours
| (1) | (2) | (3) | (1) × (2) × (3)
FERC-520 | ² 406 (total) |  |  | 12,680
○ Full | 29 | 1 | 51.8 | 1,502
○ Informational | 377 | 1 | 29.5 | 11,122
○ Notice of Change | 222 | 1 | .25 | 56
Form 561 | 2,431 | 1 | .25 | 608
FERC-566 | 434 | 1 | 6 | 2,604
Total |  |  |  | 15,892

Annual cost estimates for these collections follow.

² This number of unique respondents corresponds to the number of filers of full applications plus the number of informational filers.

FERC data collection | Annual cost burden per respondent | Total annual cost burden to respondents ³ ⁴
FERC-520 | $2,138 | $867,922
FERC-561 | 17 | 41,616
FERC-566 | 411 | 178,239

7. Reasons for Changes in Estimated Nos. of Annual Filings. A concern developed in 2004 that FERC-520 applications for authorizations to hold interlocked positions were not being filed before individuals assumed the interlocked positions, as required. In response, the Commission issued its June 2004 interlocking directorate policy statement in Docket No. PL04-10-000 and Order No. 664 in September 2005. The burden estimate for the FERC-520 in this request is based on recent Commission experience and the actual number of FERC-520 filings made between 2008 and 2010.

³ Estimated number of hours an employee works each year = 2,080. Estimated average annual cost per employee (including overhead and benefits) = $142,372.

⁴ The estimated total cost to respondents for these three information collections is $1,087,777. In 2008, the estimated total annual cost for these three collections was $1,605,745.

The number of informational applications has increased steadily from 87 in 2004 to 335 in 2010. The Commission began to separate the FERC-520 filings by type of application in its OMB clearance estimates in 2008 because the number of each type of application filed had been changing significantly. Breaking the data out by type of filing allows these changes to be easily seen. The last OMB clearance package divided the FERC-520 filings only into two categories: full and informational filings. Decreases in the number of full and informational applications has necessitated the separate tracking and reporting of three types of possible applications and the burden hours each imposes. Therefore, this OMB clearance package adds Notice of Change filings, further breaking down the categories of FERC-520 to capture, convey and begin to analyze all types of FERC-520s.

The decrease in the number of FERC-520 applications may be due to directors retaining their positions longer because of the slow economy. The number of FERC-566 filings increased by 44% because in December 2007 FERC sent out notices to those who were expected to file a FERC-566 but did not during previous reporting years.

There is a change in the annual cost estimates since the last submission in 2008 due mainly to a decrease in the number of FERC-520 filers. However, the per-hour cost estimate for each collection has increased since 2008 because the Commission is using an updated salary estimate.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Dated: June 6, 2011.
Kimberly D. Bose,
Secretary.

[FR Doc. 2011-14508 Filed 6-10-11; 8:45 am]

BILLING CODE 6717-01-P